DEPARTMENT OF LABOR

Occupational Safety and Health Administration

[Docket No. NRTL3-93]

Factory Mutual Research Corporation, Renewal of Recognition

AGENCY: Occupational Safety and Health Administration (OSHA), Labor.

ACTION: Notice.

SUMMARY: This notice announces the Agency's final decision on the application of Factory Mutual Research Corporation (FMRC) for renewal of its recognition as a Nationally Recognized Testing Laboratory (NRTL) under 29 CFR 1910.7.

EFFECTIVE DATE: This renewal becomes effective on September 12, 2001 and will be valid until September 12, 2006, unless terminated or modified prior to that date, in accordance with 29 CFR 1910.7.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the renewal of recognition of Factory Mutual Research Corporation (FMRC) as a Nationally Recognized Testing Laboratory (NRTL). FMRC's renewal covers its existing scope of recognition, which may be found in OSHA's informational web page for the NRTL (http://www.osha-slc.gov/dts/otpca/nrtl/fmrc.html). We maintain such a web page for each NRTL.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope.

When OSHA published its regulations for the NRTL Program at 29 CFR 1910.7, it temporarily recognized FMRC as a nationally recognized testing laboratory for a five year period from June 13, 1988, through June 13, 1993 (see Appendix A to 1910.7). In Appendix A, OSHA also required that FMRC apply for renewal of its OSHA recognition at the end of this temporary period. FMRC did apply for the renewal, which OSHA announced on March 29, 1995 (60 FR 16167). In its renewal application, FMRC stated that it began testing products in 1886 and that its first published listings of approved fire hose appeared in 1907.

FMRC received its first renewal of recognition on August 16, 1995 (60 FR 42590), for a period of five years ending on August 16, 2000. Appendix A to 29 CFR 1910.7 stipulates that the period of recognition of an NRTL is five years and that an NRTL may renew its recognition by applying not less than nine months, nor more than one year, before the expiration date of its current recognition. FMRC submitted a request to renew its recognition on November 9, 1999 (see Exhibit 11), within the time allotted, and retains its recognition pending OSHA's final decision in this renewal process.

OSHA published the required notice in the Federal Register on May 4, 2001 (66 FR 22605). The May 2001 notice included a preliminary finding that FMRC could meet the requirements in 29 CFR 1910.7 for renewal of its recognition and invited public comment on the applications by May 18, 2001. OSHA received no comments concerning this notice.

In processing FMRC's request for renewal of recognition, OSHA performed on-site reviews (audits) of FMRC's facilities. NRTL Program assessment staff reviewed information from these reviews and, in a memo dated October 30, 2000 (see Exhibit 12), recommended the renewal of FMRC's recognition.

The other Federal Register documents published by OSHA concerning FMRC's recognition covered an expansion for additional test standards, which the Agency announced on April 16, 1999 (64 FR 18939) and granted on August 13,1999 (64 FR 44240).

You may obtain or review copies of all public documents pertaining to the FMRC application by contacting the Docket Office, Occupational Safety and Health Administration, U.S. Department of Labor, 200 Constitution Avenue, NW., Room N2625, Washington, DC 20210. You should refer to Docket No. NRTL3-93, the permanent record of public information on the FMRC recognition.

The current addresses of the FMRC testing facilities (sites) recognized by OSHA are:

Factory Mutual Research Corporation, 1151 Boston-Providence Turnpike, Norwood, Massachusetts 02062

Factory Mutual Research Corporation, 743 Reynolds Road, West Gloucester, Rhode Island 02814

Programs and Procedures

The renewal of recognition includes FMRC's continued use of the following supplemental programs, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. OSHA previously granted FMRC recognition to use these programs, which are listed, as shown below, in OSHA's informational web page on the FMRC recognition (http://www.osha-slc.gov/dts/otpca/nrtl/fmrc.html).

Program 2: Acceptance of testing data from independent organizations, other than NRTLs

Program 3: Acceptance of product evaluations from independent organizations, other than NRTLs

Program 4: Acceptance of witnessed testing data

Program 5: Acceptance of testing data from non-independent organizations

Program 6: Acceptance of evaluation data from non-independent organizations (requiring NRTL review prior to marketing)

Program 7: Acceptance of continued certification following minor modifications by the client

Program 8: Acceptance of product evaluations from organizations that function as part of the International Electrotechnical Commission Certification Body (IEC-CB) Scheme

Program 9: Acceptance of services other than testing or evaluation performed by subcontractors or agents

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Final Decision and Order

The NRTL Program staff has examined the applications, the auditor's report, and other pertinent information. Based upon this examination and the assessor's recommendation, OSHA finds that Factory Mutual Research Corporation has met the requirements of 29 CFR 1910.7 for renewal of its NRTL recognition. The renewal applies to the sites listed above. In addition, it covers the test standards listed below, and it is subject to the limitations and conditions, also listed below. Pursuant to the authority in 29 CFR 1910.7, OSHA hereby renews the recognition of FMRC, subject to these limitations and conditions.

Limitations

Renewal of Recognition of Facilities

OSHA limits the renewal of recognition of FMRC to the 2 sites listed above. In addition, similar to other NRTLs that operate multiple sites, the Agency's recognition of any FMRC testing site is limited to performing testing to the test standards for which OSHA has recognized FMRC, and for which the site has the proper capability and control programs.

Renewal of Recognition of Test Standards

OSHA further limits the renewal of recognition of FMRC to testing and certification of products for demonstration of conformance to the test standards listed below (see Listing of Test Standards). OSHA has determined that each test standard meets the requirements for an appropriate test standard, within the meaning of 29 CFR 1910.7(c). Some of the test standards for which OSHA previously recognized FMRC were no longer appropriate at the time of preparation of the preliminary notice, primarily because they had been withdrawn by the standards developing organization. Also, OSHA recently learned that one test standard listed in the preliminary notice, ANSI S12.15 Hydrogen Sulfide Detection Instruments, was withdrawn after publication of that notice. As a result, we have excluded these test standards in the listing below. However, under OSHA policy, the NRTL may request recognition for comparable test standards, i.e., other appropriate test standards covering comparable product testing. Since a number of NRTLs are similarly affected, OSHA will publish a separate notice to make the appropriate substitutions for FMRC and other NRTLs that were recognized for these standards. The Agency has contacted these NRTLs regarding this matter.

The Agency's recognition of FMRC, or any other NRTL, for a particular test standard is always limited to equipment or materials (products) for which OSHA standards require third party testing and certification before use in the workplace. Consequently, an NRTL's scope of recognition excludes any product(s) falling within the scope of the test standard for which OSHA has no testing and certification requirements.

Listing of Test Standards

ANSI ICS 2 Industrial Control Devices, Controllers and Assemblies

ANSI S12.12 Electrical Equipment for Use in Class I, Division 2, Hazardous (Classified) Locations

ANSI S82.02.01 Electric and Electronic Test, Measuring, Controlling, and Related Equipment: General Requirements

ANSI S82.02.02 Electrical Equipment for Measurement, Control, and Laboratory Use

ANSI Z8.1 Commercial Laundry and Drycleaning Equipment and Operations

UL 8 Foam Fire Extinguishers

ANSI 11 Low Expansion Foam and Combined Agent Systems

ANSI 11A Medium- and High-Expansion Foam Systems

ANSI 12 Carbon Dioxide Extinguishing Systems

ANSI 12A Halon 1301 Fire Extinguishing Agent Systems

ANSI 13 Installation of Sprinkler Systems

ANSI 16 Deluge Foam-Water Sprinkler and Spray Systems

ANSI 17 Dry Chemical Extinguishing Systems

ANSI 20 Centrifugal Fire Pumps

UL 38 Manually Actuated Signaling Boxes for Use With Fire-Protective Signaling Systems

ANSI 72 Installation, Maintenance, and Use of Protective Signaling Systems

UL 154 Carbon-Dioxide Fire Extinguishers

UL 162 Foam Equipment and Liquid Concentrates

ANSI 250 Enclosures for Electrical Equipment

UL 299 Dry Chemical Fire Extinguishers

UL 346 Waterflow Indicators for Fire Protective Signaling Systems

UL 347 High-Voltage Industrial Control Equipment

UL 508 Electric Industrial Control Equipment

UL 558 Industrial Trucks, Internal Combustion Engine-Powered

UL 583 Electric-Battery-Powered Industrial Trucks

UL 626 2 ½ Gallon Stored-Pressure, Water-Type Fire Extinguishers

UL 664 Commercial (Class IV) Electric Dry-Cleaning Machines

UL 674 Electric Motors and Generators for Use in Hazardous (Classified) Locations

UL 698 Industrial Control Equipment for Use in Hazardous (Classified) Locations

UL 711 Rating and Fire Testing of Fire Extinguishers

UL 753 Alarms Accessories for Automatic Water-Supply Control Valves

UL 781 Portable Electric Lighting Units for Use in Hazardous (Classified) Locations

UL 823 Electric Heaters for Use in Hazardous (Classified) Locations

UL 827 Central-Stations for Watchmen, Fire-Alarm, and Supervisory Services

UL 844 Electric Lighting Fixtures for Use in Hazardous (Classified) Locations

UL 863 Time-Indicating and -Recording Appliances

UL 864 Control Units for Fire-Protective Signaling Systems

UL 877 Circuit Breakers and Circuit-Breaker Enclosure for Use in Hazardous (Classified) Locations

UL 886 Electrical Outlet Boxes and Fittings for Use in Hazardous (Classified) Locations

UL 894 Switches for Use in Hazardous (Classified) Locations

UL 913 Intrinsically Safe Apparatus and Associated Apparatus for Use In Class I, II, and III, Division I, Hazardous (Classified) Locations

UL 1002 Electrically Operated Valve for Use in Hazardous (Classified) Locations

UL 1058 Halogen Agent Extinguishing System Units

UL 1093 Halogenated Agent Fire Extinguishers

FMRC 1110 Indicator Posts

UL 1203 Explosion-Proof and Dust-Ignition-Proof Electrical Equipment for Use in Hazardous (Classified) Locations

UL 1206 Electrical Commercial Clothes-Washington Equipment

UL 1207 Sewage Pumps for Use in Hazardous (Classified) Locations FMRC 1221 Backflow Preventers

UL 1236 Battery Chargers for Charging Engine-Starter Batteries

UL 1240 Electric Commercial Clothes-Drying Equipment

UL 1254 Pre-Engineered Dry Chemical Extinguishing System Units

UL 1262 Laboratory Equipment

FMRC 1321 Controllers for Electric Motor Driven Fire Pumps

FMRC 1333 Diesel Engine Fire Pump Drivers

FMRC 1635 Plastic Pipe and Fittings for Automatic Sprinkler Systems

UL 1950 Information Technology Equipment Including Electrical Business Equipment

FMRC 2000 Automatic Sprinklers for Fire Protection

FMRC 2008 Early Suppression-Fast Response (ESFR) Automatic Sprinklers

FMRC 3260 Flame Radiation Detectors for Automatic Fire Alarm Signaling

FMRC 3600 Electrical Equipment for Use in Hazardous (Classified) Locations, General Requirements

FMRC 3610 Intrinsically Safe Apparatus and Associated Apparatus for Use in Class I, I and III, Division 1 Hazardous (Classified) Locations

FMRC 3611 Electrical Equipment for Use in Class I, Division 2; Class II, Division 2; and Class III, Division 1 and 2 Hazardous Locations

FMRC 3615 Explosion proof Electrical Equipment, General Requirements

FMRC 3620 Purged and Pressurized Electrical Equipment for Hazardous (Classified) Locations

FMRC 3810 Electrical and Electronic Test, Measuring, and Process Control Equipment

FMRC 3990 Less or nonflammable Liquid-Insulated Transformers

FMRC 6051 Safety Containers and Filing, Supply and Disposal Containers

FMRC 6310 Combustible Gas Detectors

FMRC 7812 Industrial Trucks—LP-Gas

FMRC 7816 Industrial Trucks—LP-Gas Dual Fuel

FMRC 7820 Industrial Trucks—Electric

Note: Testing and certification of gas operated equipment is limited to equipment for use with “liquefied petroleum gas” (“LPG” or “LP-Gas”)

The designations and titles of the above test standards were current at the time of the preparation of the notice of the preliminary finding.

Many of the test standards listed above are approved as American National Standards by the American National Standards Institute (ANSI). However, for convenience in compiling the list, we show the designation of the standards developing organization (e.g., UL 1950) for the standard, as opposed to the ANSI designation (e.g., ANSI/UL 1950). Under our procedures, an NRTL recognized for an ANSI-approved test standard may use either the latest proprietary version of the test standard or the latest ANSI version of that standard, regardless of whether it is currently recognized for the proprietary or ANSI version. Contact ANSI or the ANSI web site (http://www.ansi.org) and click “NSSN” to find out whether or not a test standard is currently ANSI-approved.

Conditions

FMRC must also abide by the following conditions of the recognition, in addition to those already required by 29 CFR 1910.7:

OSHA must be allowed access to FMRC's facility and records for purposes of ascertaining continuing compliance with the terms of its recognition and to investigate as OSHA deems necessary;

If FMRC has reason to doubt the efficacy of any test standard it is using under this program, it must promptly inform the test standard developing organization of this fact and provide that organization with appropriate relevant information upon which its concerns are based;

FMRC must not engage in or permit others to engage in any misrepresentation of the scope or conditions of its recognition. As part of this condition, FMRC agrees that it will allow no representation that it is either a recognized or an accredited Nationally Recognized Testing Laboratory (NRTL) without clearly indicating the specific equipment or material to which this recognition is tied, or that its recognition is limited to certain products;

FMRC must inform OSHA as soon as possible, in writing, of any change of ownership, facilities, or key personnel, and of any major changes in its operations as an NRTL, including details;

FMRC will meet all the terms of its recognition and will always comply with all OSHA policies pertaining to this recognition; and

FMRC will continue to meet the requirements for recognition in all areas where it has been recognized.

Signed at Washington, D.C. this 27 day of August, 2001.
John L. Henshaw,
Assistant Secretary.

[FR Doc. 01-22827 Filed 9-11-01; 8:45 am]

BILLING CODE 4510-26-P